DEPARTMENT OF COMMERCE

National Institute of Standards and Technology

Prospective Grant of Exclusive Patent License

AGENCY: National Institute of Standards and Technology, Commerce.

ACTION: Notice of prospective grant of exclusive patent license.

SUMMARY: This is a notice in accordance with 35 U.S.C. 209(e) and 37 CFR 404.7(a)(1)(i) that the National Institute of Standards and Technology (“NIST”), U.S. Department of Commerce, is contemplating the grant of an exclusive license in the United States of America, its territories, possessions and commonwealths, to NIST's interest in the invention embodied in U.S. Patent Application No. 61/625,511 titled “UV-Assisted Alcohol Sensing with Zinc Oxide Functionalized Gallium Nitride Nanowires,” NIST Docket No. 12-020 to the University of Maryland, having a place of business at 0133 Cole Student Activities Building, College Park MD 20742-1001. The grant of the license would be for all fields of use.

FOR FURTHER INFORMATION CONTACT: Terry Lynch, National Institute of Standards and Technology, Technology Partnerships Office, 100 Bureau Drive, Stop 2200, Gaithersburg, MD 20899, (301) 975-2691, terry.lynch@nist.gov.

SUPPLEMENTARY INFORMATION: The prospective exclusive license will be royalty bearing and will comply with the terms and conditions of 35 U.S.C. 209 and 37 CFR 404.7. The prospective exclusive license may be granted unless, within fifteen days from the date of this published Notice, NIST receives written evidence and argument which establish that the grant of the license would not be consistent with the requirements of 35 U.S.C. 209 and 37 CFR 404.7.

U.S. Patent Application No. 61/625,511 is co-owned by the U.S. government, as represented by the Secretary of Commerce, George Washington University and the University of Maryland. Alcohol sensors using gallium nitride (GaN) nanowires (NWs) functionalized with zinc oxide (ZnO) nanoparticles have been demonstrated. These sensors operate at room temperature, are fully recoverable and demonstrate a response and recovery time of the order of 100 s. The sensing is assisted by UV light within the 215 nm-400 nm band and with the intensity of 375 nW/cm2 measured at 365 nm. The ability to functionalize an inactive nanowire surface, with analyte specific active metal oxide nanoparticles makes this sensor technique suitable for fabricating multi-analyte sensor arrays.

Dated: October 23, 2012.
Willie E. May,
Associate Director for Laboratory Programs.

[FR Doc. 2012-26674 Filed 10-29-12; 8:45 am]

BILLING CODE 3510-13-P